DEPARTMENT OF THE INTERIOR

Bureau of Land Management

[MTM 56312]

Public Land Order No. 7610; Extension of Public Land Order No. 6560; Montana

AGENCY: Bureau of Land Management, Interior.

ACTION: Public Land Order.

SUMMARY: This order extends Public Land Order No. 6560 for an additional 20-year period. This extension is necessary to continue protection of the facilities and capital improvements within the Wisdom Administrative Site.

EFFECTIVE DATE: August 6, 2004.

FOR FURTHER INFORMATION CONTACT: Sandra Ward, Bureau of Land Management, Montana State Office, P.O. Box 36800, Billings, Montana 59107-6800, 406-896-5052.

Order

By virtue of the authority vested in the Secretary of the Interior by Section 204 of the Federal Land Policy and Management Act of 1976, 43 U.S.C. 1714 (2000), it is ordered as follows:

(1) Public Land Order No. 6560 (49 FR 32068, August 10, 1985) which withdrew 59.99 acres of National Forest System land in the Beaverhead-Deerlodge National Forest from surface entry and mining to protect the Wisdom Administrative Site, is hereby extended for an additional 20-year period.

(2) Public Land Order No. 6560 will expire on August 5, 2024, unless, as a result of a review conducted before the expiration date pursuant to Section 204(f) of the Federal Land Policy and Management Act of 1976, 43 U.S.C. 1714(f) (2000), the Secretary determines that the withdrawal shall be extended.

Dated: August 2, 2004.
Rebecca W. Watson,
Assistant Secretary—Land and Minerals Management.

[FR Doc. 04-18571 Filed 8-12-04; 8:45 am]

BILLING CODE 3410-11-P